DEPARTMENT OF COMMERCE

National Oceanic and Atmospheric Administration

15 CFR Part 922

Draft Marine Sanitation Device Discharge Regulations for the Florida Keys National Marine Sanctuary; Public Meetings

AGENCY: National Oceanic and Atmospheric Administration (NOAA), Department of Commerce (DOC).

ACTION: Notice of public meetings.

SUMMARY: This notice advises the public that NOAA has scheduled three public meetings to obtain comments on the proposed rule, issued on November 16, 2009 (74 FR 58923), to amend the regulations implementing the Florida Keys National Marine Sanctuary (FKNMS or sanctuary) to eliminate the exemption that allows discharges of biodegradable effluent incidental to vessel use and generated by marine sanitation devices, and to require marine sanitation devices be locked to prevent discharges into the sanctuary.

DATES: Three meetings will be held where the public will have opportunities to ask questions about the proposed rule to amend the vessel discharge regulations and provide formal comments. The meetings will be held from 4:30 p.m. to 6:30 p.m. on the following dates and at the indicated locations:

• January 21, 2010: Marathon Garden Club, 5270 Overseas Hwy (Mile Marker 50), Marathon, FL 33050.

• January 25, 2010: Florida Keys Eco-Discovery Center, 35 East Quay Road, Key West, FL 33040.

• January 27, 2010: Islamorada Public Library, Mile Marker 81.5 Bayside, Islamorada, FL 33036.

ADDRESSES: The proposed rule is available on the FKNMS Web site http://floridakeys.noaa.gov. NOAA is currently accepting comments on the proposed rule if they are received by February 17, 2010. Please see the proposed rule for further details and instructions on submitting written comments on the proposed rule.

FOR FURTHER INFORMATION CONTACT: Sean Morton, Acting Superintendent, Florida Keys National Marine Sanctuary; 33 East Quay Road, Key West, FL 33040; (305) 809-4770.

SUPPLEMENTARY INFORMATION:

Sanctuary Background

The FKNMS was designated by Congress in 1990 through the Florida Keys National Marine Sanctuary Protection Act (FKNMSPA, Pub. L. 101-605) and extends approximately 220 nautical miles southwest from the southern tip of the Florida peninsula, and is composed of both State and Federal waters. The sanctuary's marine ecosystem supports over 6,000 species of plants, fishes, and invertebrates, including the Nation's only living coral reef that lies adjacent to the continent. The area includes one of the largest seagrass communities in this hemisphere. The primary goal of the sanctuary is to protect the marine resources of the Florida Keys. Other goals of the sanctuary include facilitating human uses that are consistent with the primary objective of resource protection as well as educating the public about the Florida Keys marine environment. Attracted by this subtropical diversity, tourists spend more than thirteen million visitor days in the Florida Keys each year. In addition, the region provides recreation and livelihoods for approximately 80,000 residents.

Location and Size of Resource Management

FKNMS is 2,900 square nautical miles of coastal waters, including the 2001 addition of the Tortugas Ecological Reserve. The sanctuary overlaps four national wildlife refuges, six State parks, three State aquatic preserves and incorporates two of the earliest national marine sanctuaries to be designated, Key Largo and Looe Key National Marine Sanctuaries. Three national parks have separate jurisdictions, and share a boundary with the sanctuary. The region also has some of the most significant maritime heritage and historical resources of any coastal community in the nation.

Proposed Regulatory Amendment

On November 16, 2009, NOAA issued a proposed rule to amend the FKNMS regulations to eliminate the exemption that allows discharges of biodegradable effluent incidental to vessel use and generated by marine sanitation devices, and to require marine sanitation devices be locked to prevent discharges (74 FR 58923). The meetings described in the DATES section above are intended to provide the public with additional opportunities to ask questions and provide formal comment about this proposed regulation. Written comments will be collected on note cards and verbal comments will be recorded and transcribed.

Dated: December 29, 2009.
Daniel J. Basta,
Director, Office of National Marine Sanctuaries.

[FR Doc. E9-31407 Filed 1-6-10; 8:45 am]

BILLING CODE 3510-NK-M